DEPARTMENT OF HEALTH AND HUMAN SERVICES

National Institutes of Health

Prospective Grant of Exclusive License: Nitroxides as Protectors Against Oxidative Stress

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of an exclusive license worldwide to practice the invention embodied in U.S. Patent 5,792,775, issued on August 11, 1998, entitled “Nitroxides as Protectors Against Oxidative Stress,” to Mitos, Inc. having a place of business in the State of California. The field of use may be limited to therapeutics for the treatment and/or protection of tissue damage caused by ionization radiation. The United States of America is the assignee of the patent rights in this invention. This announcement is the first notice to grant an exclusive license to this technology.

DATES: Only written comments and/or application for a license which are received by the NIH Office of Technology Transfer on or before June 27, 2005 will be considered.

ADDRESSES: Requests for a copy of the patent, inquiries, comments and other materials relating to the contemplated license should be directed to: Pradeep Ghosh, J.D., Ph.D., M.B.A., Technology Licensing Specialist, Office of Technology Transfer, National Institutes of Health, 6011 Executive Boulevard, Suite 325, Rockville, MD 20852-3804; telephone: (301) 435-5282; Facsimile: (301) 402-0220; e-mail: ghoshpr@mail.nih.gov.]

SUPPLEMENTARY INFORMATION: This technology relates to to the use of a biologically compatible composition containing an effective amount of a metal independent nitroxide compound as an antioxidant capable of protecting cells, tissues, organs, and whole organisms against deleterious effects of harmful oxygen-derived species generated during oxidative stress induced by ionizing radiations. Nitroxides are low molecular weight molecules and easily soluble in aqueous solutions. They are active within the biological pH range of 5-8, non-toxic at effective concentrations and can be easily attached to several organic molecules that may facilitate targeting of the molecules to specific organs or organelles. These properties of nitroxides make them ideal for treatment and protection of radiation induced cellular and tissue damages.

The prospective exclusive license will be royalty-bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: April 18, 2005.
Steven M. Ferguson,
Director, Division of Technology Development and Transfer, Office of Technology Transfer, National Institutes of Health.

[FR Doc. 05-8299 Filed 4-25-05; 8:45 am]

BILLING CODE 4140-01-P